DEPARTMENT OF HEALTH AND HUMAN SERVICES

Centers for Medicare & Medicaid Services

[CMS-3300-FN]

RIN 0938-ZB15

Medicare Program; Evaluation Criteria and Standards for Quality Improvement Networks Quality Improvement Program Contracts; Base and Task Orders

AGENCY: Centers for Medicare & Medicaid Services (CMS), HHS.

ACTION: Final notice.

SUMMARY: This final notice announces the general criteria we will use to evaluate the effectiveness and efficiency of Quality Innovation Network (QIN) Quality Improvement Organizations (QIOs) that entered into contracts with CMS under the 11th Statement of Work (SOW) in July 2014. (The activities for the QIN-QIO SOW began August 1, 2014). In addition, this notice addresses public comments on the August 11, 2014 notice with comment period entitled, “Evaluation Criteria and Standards for Quality Improvement Networks Quality Improvement Program Contracts [Base and Task Order(s)]”

DATES: Effective Dates: August 1, 2014 to July 31, 2019.

FOR FURTHER INFORMATION CONTACT: Alfreda Staton, (410) 786-4194.

SUPPLEMENTARY INFORMATION:

I. Background

Section 1153(h)(2) of the Social Security Act (the Act) requires the Secretary of the Department of Health and Human Services (the Secretary) to publish in the Federal Register the general criteria and standards that will be used to evaluate the effective and efficient performance of contract obligations by the Quality Improvement Organizations (QIOs), and to provide the opportunity for public comment with respect to these criteria and standards.

II. Provisions of the Notice With Comment Period

On August 11, 2014, we published a notice with comment period in the Federal Register (79 FR 46830 through 46835) entitled, “Evaluation Criteria and Standards for Quality Improvement Networks Quality Improvement Program Contracts [Base and Task Order(s)]” to announce the general criteria that we would use to evaluate performance of the Quality Innovation Network (QIN)—QIOs under the QIN-QIO 11th Statement of Work (SOW) contract beginning August 1, 2014. (Solicitation Number: HHSM-500-2014-RFP-QIN-QIO). That notice summarized the tasks of the QIN-QIOs and the criteria to be used for annual performance evaluations during the 5-year term of the contract.

The evaluation of a QIN QIO's performance related to their SOW will be based on evaluation criteria specified for the tasks and subtasks set forth in Section C.5 of the QIN-QIO Base Contract and Attachment J-1(b) of the QIN-QIO Task Order. The general criteria that will be used to evaluate the QIN-QIOs under the QIN-QIO 11th SOW contract beginning August 1, 2014, include performance of the following Tasks:

• Improving Cardiac Health and Reducing Cardiac Healthcare Disparities.

• Reducing Disparities in Diabetes Care.

• Improving Prevention Coordination through Meaningful Use of Health Information Technology (HIT) and Collaborating with Regional Extension Centers (RECs).

• Reducing Healthcare-Associated Infections in Hospitals.

• Reducing Healthcare-Acquired Conditions in Nursing Homes.

• Improving Coordination of Care, Quality Improvement through Value-Based Payment, Quality Reporting, and the Physician Feedback Reporting Program.

• Quality Improvement Initiatives.

The Table at Attachment J.1(b) of the SOW lists performance measures by the following Tasks:

• B.1. Improving Cardiac Health

• B.2. Everyone with Diabetes Counts

• B.3. (Reserved)

• B.4. Meaningful Use of HIT and Collaborating With RECs

• C.1. Reducing Healthcare-Acquired Infections (HAIs) in Hospitals

• C.2. Reducing Healthcare-Acquired Conditions in Nursing Homes

• C.3. Coordination of Care

• D.1. Quality Improvement through Physician Value-Based Modifiers

• E.1. Technical Assistance—Quality Improvement Initiatives (QIIs)

Evaluation Criteria. Annual (12, 24, 36, 48th month) and 54th month Evaluation Criteria are defined in Attachment J-1(b) of the QIN-QIO SOW.

Additional details provided in the notice are posted at: http://www.gpo.gov/fdsys/pkg/FR-2014-08-11/pdf/2014-18901.pdf.

III. Analysis of and Responses to Public Comments on the Notice With Comment Period

A commenter affiliated with a private healthcare quality improvement entity submitted several comments concerning the general criteria we would use to evaluate the effectiveness and efficiency of QIN-QIOs that entered into contracts with CMS under the 11th SOW.

A summary of the comments and our responses are as follows:

Comment: The commenter expressed appreciation for the opportunity to submit comments on the general evaluation criteria and standards and noted the importance of the three-part aim in the QIN-QIO SOW of better health, better healthcare, and lower costs through improved quality for Medicare enrollees. The commenter suggested that CMS continue its efforts to assess the effectiveness of the QIN-QIOs using measures of: improved patient quality and safety, improved population health, reduction of avoidable costs, engagement of patients, families and consumers in care and population health improvement and improved coordination of care and integrative services.

Response: We agree with the commenter that the QIN-QIO contract and the general evaluation criteria and standards focus on strategic initiatives including the three part aim and the projects identified in the QIN-QIO Task Order support our goals of the three broad aims of better healthcare, better health, and lower healthcare costs through improvement for all Medicare beneficiaries. Measures for better healthcare include those for the Aim, Better Healthcare for Communities: Beneficiary-Centered, Reliable, Accessible, and Safe Care and includes measures for Tasks C.1 Reducing Healthcare-Associated Infections in Hospitals,C.2, Reducing Healthcare-Acquired Conditions in Nursing Homes, and C.3, Promote Effective Communication and Coordination of Care. Measures for the better health include those for the Aim, Healthy People, Healthy Communities: Improving the Health Status of Communities and include Tasks B.1, Improving Cardiac Health and Reducing Cardiac Healthcare Disparities, B.2, Reducing Disparities in Diabetes Care: Everyone with Diabetes Counts, and B.4, Improving Prevention Coordination through Meaningful Use of HIT and Collaborating with Regional Extension Centers. Measures for lower healthcare costs include Aim D, Better Care at Lower Cost and Task D.1, Quality Improvement through Value-Based Payment, Quality Reporting, and the Physician Feedback Reporting Program. These efforts will likely have a secondary effect of aiding in the transformation of the healthcare system.

Comment: The commenter stated that CMS should provide QIN-QIOs with timely communication after award of the contract regarding operational and implementation issues that may arise over the 5-year period of performance.

Response: We agree with the need for timely, systematic documentation of questions and answers to each QIN-QIO regarding all aspects of the SOW, including deliverables and the evaluation measures. We established an electronic system for submitting and documenting responses to contract performance concerns and questions; this system was made available to each of the QIN-QIOs.

IV. Comment Outside the Scope of the Notice

A second commenter submitted a comment suggesting that CMS provide beneficiaries with an option to pay annually rather than only monthly for the Part D benefit. This comment is outside the scope of the notice of evaluation standards and criteria for the QIN-QIO SOW therefore, we are not providing a response to that comment.

V. Provisions of the Final Notice

We have analyzed these comments and determined that it is appropriate to finalize without modification the provisions set forth in the August 11, 2014 notice with comment period entitled, “Evaluation Criteria and Standards for Quality Improvement Networks Quality Improvement Program Contracts [Base and Task Order(s)].” (79 FR 46830 through 46835).

VI. Collection of Information Requirements

This document does not impose information collection requirements, that is, reporting, recordkeeping or third-party disclosure requirements. Consequently, there is no need for review by the Office of Management and Budget under the authority of the Paperwork Reduction Act of 1995.

VII. Regulatory Impact Statement

In accordance with the provisions of Executive Order 12866, this notice was not reviewed by the Office of Management and Budget.

Dated: November 19, 2014.
Marilyn Tavenner,
Administrator, Centers for Medicare & Medicaid Services.

[FR Doc. 2014-30447 Filed 12-29-14; 8:45 am]

BILLING CODE 4120-01-P